SECURITIES AND EXCHANGE COMMISSION

[Release No. 34-70995; File No. SR-NYSEArca-2013-92]

Self-Regulatory Organizations; NYSE Arca, Inc.; Notice of Designation of a Longer Period for Commission Action on Proposed Rule Change To Amend NYSE Arca Equities Rules 7.31, 7.32, 7.37, and 7.38 in Order To Comprehensively Update Rules Related to the Exchange's Order Types and Modifiers

December 5, 2013.

On September 30, 2013, NYSE Arca, Inc. (“NYSE Arca” or “Exchange”) filed with the Securities and Exchange Commission (“Commission”), pursuant to Section 19(b)(1) of the Securities Exchange Act of 1934 (“Act”) ¹ and Rule 19b-4 thereunder,² a proposed rule change to amend NYSE Arca Equities Rules 7.31, 7.32, 7.37, and 7.38 in order to comprehensively update rules related to the Exchange's order types and modifiers. The proposed rule change was published for comment in the Federal Register on October 22, 2013.³ The Commission received no comments on the proposal.

¹ 15 U.S.C. 78s(b)(1).

² 17 CFR 240.19b-4.

³ See Securities Exchange Act Release No. 70637 (October 9, 2013), 78 FR 62745 (“Notice”).

Section 19(b)(2) of the Act ⁴ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is December 6, 2013. The Commission is extending this 45-day time period.

⁴ 15 U.S.C. 78s(b)(2).

The Commission finds that it is appropriate to designate a longer period within which to take action on the proposed rule change so that it has sufficient time to consider the proposal. The proposal would comprehensively update the Exchange's order type and modifier rules in order to provide additional specificity and transparency regarding the operation of many of the Exchange's order types and modifiers, better align the Exchange's rules with currently available functionality, and organize and define the Exchange's order types and modifiers in a more intuitive manner.

Accordingly, the Commission, pursuant to Section 19(b)(2) of the Act,⁵ designates January 20, 2014, as the date by which the Commission should either approve or disapprove or institute proceedings to determine whether to disapprove the proposed rule change.

⁵ 15 U.S.C. 78s(b)(2).

⁶ 17 CFR 200.30-3(a)(31).

For the Commission, by the Division of Trading and Markets, pursuant to delegated authority.⁶
Kevin M. O'Neill,
Deputy Secretary.

[FR Doc. 2013-29493 Filed 12-10-13; 8:45 am]

BILLING CODE 8011-01-P